DEPARTMENT OF ENERGY

Federal Energy Regulatory Commission

[Docket No. ER00-2383-000]

California Independent System Operator Corporation; Notice of Filing

May 19, 2000.

Take notice that on May 3, 2000, the California Independent System Operator Corporation (ISO), tendered for filing an correction regarding a proposed amendment (Amendment No. 29), to the ISO Tariff, which had been filed in the above-referenced docket on May 2, 2000. The correction provided tariff sheets containing Tariff sections that were “rolled over” to subsequent pages of the Tariff, as a result of changes and additions made in the Amendment No. 29 filing, and corrected an error in the section numbering on a certain Tariff sheet that was included in the Amendment No. 29 filing.

The ISO states that this filing has been served upon the Public Utilities Commission of California, the California Energy Commission, the California Electricity Oversight Board, and all parties with effective Scheduling Coordinator Service Agreements under the ISO tariff.

Any person desiring to be heard or to protest such filing should file a motion to intervene or protest with the Federal Regulatory Commission, 888 First Street, NE., Washington, DC 20426, in accordance with Rules 211 and 214 of the Commission's Rules of Practice and Procedure (18 CFR 385.211 and 385.214). All such motions and protests should be filed on or before May 30, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-13114 Filed 5-24-00; 8:45 am]

BILLING CODE 6717-01-M